DEPARTMENT OF HOUSING AND URBAN DEVELOPMENT

[Docket No. FR-5477-N-15]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; COE: Mr. Scott Whiteford, Army Corps of Engineers, Real Estate, CEMP-CR, 441 G Street, NW, Washington, DC 20314; (202) 761-5542; Energy: Mr. Mark Price, Department of Energy, Office of Engineering & Construction Management, MA-50, 1000 Independence Ave, SW, Washington, DC 20585: (202) 586-5422; GSA: Mr. Gordon Creed, Acting Deputy Assistant Commissioner, General Services Administration, Office of Property Disposal, 18th & F Streets, NW., Washington, DC 20405; (202) 501-0084;

Interior: Mr. Michael Wright, Acquisition & Property Management, Department of the Interior, 1801 Pennsylvania Ave, NW., 4th Floor, Washington, DC 20006: (202) 208-5399;

Dated: April 7, 2011.
Mark R. Johnston,
Deputy Assistant Secretary for Special Needs.

TITLE V, FEDERAL SURPLUS PROPERTY PROGRAM FEDERAL REGISTER REPORT FOR 04/15/2011

Suitable/Available Properties

Building

Nebraska

10 Bldgs.

Temp. Lodging

Offutt NE 68113

Landholding Agency: Air Force

Property Number: 18201120014

Status: Excess

Directions: 5089, 5090, 5091, 5092, 5093, 5094, 5095, 5097, 5098, 5099

Comments: Off-site removal only, sq. ft. varies btw. each bldg., current-use: temp. lodging, good to fair conditions for all bldgs.

Texas

FAA RML Facility

11262 N. Houston Rosslyn Rd.

Houston TX 77086

Landholding Agency: GSA

Property Number: 54201110016

Status: Surplus

GSA Number: 7-U-TX-1129

Comments: 448 sq. ft., recent use: storage, asbestos has been identified in the floor.

Suitable/Available Properties

Land

Colorado

Common Pt. Shooting Rng.

Bureau of Reclamation

Drake CO 80515

Landholding Agency: GSA

Property Number: 54201120003

Status: Excess

GSA Number: 7-1-CO—0678

Comments: 35.88 acres; If the purchaser ceases using the property as a firing range they will be held to a higher standard of lead remediation by the local and Federal environmental protection agencies.

Louisiana

Almonaster

4300 Almonaster Ave.

New Orleans LA 70126

Landholding Agency: GSA

Property Number: 54201110014

Status: Surplus

GSA Number: 7-D-LA-0576

Comments: 9.215 acres.

New York

Floyd Wknd Training Site

Koenig Rd

Floyd NY 13440

Landholding Agency: GSA

Property Number: 54201120002

Status: Excess

GSA Number: 1-D-NY-0958

Comments: The bldgs. on this land were deemed “unsuitable” due to extensive deterioration (property # 54201120001); however the land was deemed “suitable/available”, .+/− 51.2 acres, current-use: field training.

Suitable/Unavailable Properties

Building

Georgia

Ft. Benning Railroad Corridor

Cusseta Road

Columbus GA 31401

Landholding Agency: GSA

Property Number: 54201030006

Status: Excess

GSA Number: 4-D-GA-0518AD

Comments: 55 linear acres, multiple easements, most recent use—railroad/utility corridor, portion is under lease until 12/31/2010.

Iowa

Former SSA Bldg.

3012 Division Street

Burlington IA 52601

Landholding Agency: GSA

Property Number: 54201020005

Status: Excess

GSA Number: 7-G-IA-0508

Comments: 5060 sq. ft., most recent use—office.

Louisiana

FAA Outermarker

St. Charles Parish

New Orleans LA 70094

Landholding Agency: GSA

Property Number: 54201030007

Status: Excess

GSA Number: 7-U-LA-574-1

Comments: 48 sq. ft., legal constraints, mining leases, located near landfill/airport, most recent use—storage.

Maryland

Appraisers Store

Baltimore MD 21202

Landholding Agency: GSA

Property Number: 54201030016

Status: Excess

GSA Number: 4-G-MD-0623

Comments: Redetermination: 169,801 sq. ft., most recent use—federal offices, listed in the Nat'l Register of Historic Places, use restrictions.

Michigan

CPT George S. Crabbe USARC

2901 Webber Street

Saginaw MI

Landholding Agency: GSA

Property Number: 54201030018

Status: Excess

GSA Number: 1-D-MI-835

Comments: 3891 sq. ft., 3-bay garage maintenance building.

North Carolina

Greensboro Federal Bldg.

320 Federal Place

Greensboro NC 27401

Landholding Agency: GSA

Property Number: 54201040018

Status: Excess

GSA Number: 4-G-NC-750

Comments: 94,809 sq. ft. office bldg., major structural issues exist with exterior brick facade.

Ohio

Belmont City Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop.

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property.

2LT George F. Pennington USARC

2164 Harding Hwy. E.

Marion OH 43302

Landholding Agency: GSA

Property Number: 54201020010

Status: Excess

GSA Number: I-D-OH-838

Comments: 4,396 and 1,325 sq. ft; current use: office and storage; asbestos identified.

Oregon

Residence

140 Government Road

Malheur Nat'l Forest

John Day OR 97845

Landholding Agency: GSA

Property Number: 54201040012

Status: Excess

GSA Number: 9-A-OR-0786-AA

Comments: 1560 sq. ft., presence of asbestos/lead paint, off-site use only.

South Carolina

Naval Health Clinic

3600 Rivers Ave.

Charleston SC 29405

Landholding Agency: GSA

Property Number: 54201040013

Status: Excess

GSA Number: 4-N-SC-0606

Comments: Redetermination: 399,836 sq. ft., most recent use: office.

Virginia

Sewell's Point Substation

Hampton Blvd.

Norfolk VA 23505

Landholding Agency: GSA

Property Number: 54201030009

Status: Excess

GSA Number: 4-N-VA-0753

Comments: 400 sq. ft., permanent utility easement, most recent use—electrical substation.

Washington

Fox Island Naval Lab

630 3rd Ave.

Fox Island WA 98333

Landholding Agency: GSA

Property Number: 54201020012

Status: Surplus

GSA Number: 9-D-WA-1245

Comments: 6405 sq. ft.; current use: office and lab.

West Virginia

Harley O. Staggers Bldg.

75 High St.

Morgantown WV 26505

Landholding Agency: GSA

Property Number: 54201020013

Status: Excess

GSA Number: 4-G-WV-0557

Comments: 57,600 sq. ft; future owners must maintain exposure prevention methods (details in deed); most recent use: P.O. and federal offices.

Suitable/Unavailable Properties Land

Arizona

0.30 acre

Bethany Home Road

Glendale AZ 85306

Landholding Agency: GSA

Property Number: 54201030010

Status: Excess

GSA Number: 9-I-AZ-0859

Comments: 10 feet wide access road.

California

Parcel F-2 Right of Way

Seal Beach CA 90740

Landholding Agency: GSA

Property Number: 54201030012

Status: Surplus

GSA Number: 9-N-CA-1508-AI

Comments: Correction: 631.62 sq. ft., encroachment.

Parcel F-4 Right of Way

Seal Beach CA

Landholding Agency: GSA

Property Number: 54201030014

Status: Surplus

GSA Number: 9-N-CA-1508-AK

Comments: 126.32 sq. ft., within 3 ft. set back required by City.

Drill Site #3A

Ford City CA 93268

Landholding Agency: GSA

Property Number: 54201040004

Status: Surplus

GSA Number: 9-B-CA-1673-AG

Comments: 2.07 acres, mineral rights, utility easements.

Drill Site #4

Ford City CA 93268

Landholding Agency: GSA

Property Number: 54201040005

Status: Surplus

GSA Number: 9-B-CA-1673-AB

Comments: 2.21 acres, mineral rights, utility easements.

Drill Site #6

Ford City CA 93268

Landholding Agency: GSA

Property Number: 54201040006

Status: Surplus

GSA Number: 9-B-CA-1673-AC

Comments: 2.13 acres, mineral rights, utility easements.

Drill Site #9

Ford City CA 93268

Landholding Agency: GSA

Property Number: 54201040007

Status: Surplus

GSA Number: 9-B-CA-1673-AH

Comments: 2.07 acres, mineral rights, utility easements.

Drill Site #20

Ford City CA 93268

Landholding Agency: GSA

Property Number: 54201040008

Status: Surplus

GSA Number: 9-B-CA-1673-AD

Comments: 2.07 acres, mineral rights, utility easements.

Drill Site #22

Ford City CA 93268

Landholding Agency: GSA

Property Number: 54201040009

Status: Surplus

GSA Number: 9-B-CA-1673-AF

Comments: 2.07 acres, mineral rights, utility easements.

Drill Site #24

Ford City CA 93268

Landholding Agency: GSA

Property Number: 54201040010

Status: Surplus

GSA Number: 9-B-CA-1673-AE

Comments: 2.06 acres, mineral rights, utility easements.

Drill Site #26

Ford City CA 93268

Landholding Agency: GSA

Property Number: 54201040011

Status: Surplus

GSA Number: 9-B-CA-1673-AA

Comments: 2.07 acres, mineral rights, utility easements.

Kentucky

Tract 2625

Barkley Lake, Kentucky, and Tennessee

Cadiz KY 42211

Landholding Agency: COE

Property Number: 31199010025

Status: Excess

Directions: Adjoining the village of Rockcastle.

Comments: 2.57 acres; rolling and wooded.

Tract 2709-10 and 2710-2

Barkley Lake, Kentucky and Tennessee

Cadiz KY 42211

Landholding Agency: COE

Property Number: 31199010026

Status: Excess

Directions: 2½ miles in a southerly direction from the village of Rockcastle.

Comments: 2.00 acres; steep and wooded.

Tract 2708-1 and 2709-1

Barkley Lake, Kentucky and Tennessee

Cadiz KY 42211

Landholding Agency: COE

Property Number: 31199010027

Status: Excess

Directions: 2½ miles in a southerly direction from the village of Rockcastle.

Comments: 3.59 acres; rolling and wooded; no utilities.

Tract 2800

Barkley Lake, Kentucky and Tennessee

Cadiz KY 42211

Landholding Agency: COE

Property Number: 31199010028

Status: Excess

Directions: 4½ miles in a southeasterly direction from the village of Rockcastle.

Comments: 5.44 acres; steep and wooded.

Tract 2915

Barkley Lake, Kentucky and Tennessee

Cadiz KY 42211

Landholding Agency: COE

Property Number: 31199010029

Status: Excess

Directions: 6½ miles west of Cadiz.

Comments: 5.76 acres; steep and wooded; no utilities.

Tract 2702

Barkley Lake, Kentucky and Tennessee

Cadiz KY 42211

Landholding Agency: COE

Property Number: 31199010031

Status: Excess

Directions: 1 mile in a southerly direction from the village of Rockcastle.

Comments: 4.90 acres; wooded; no utilities.

Tract 4318

Barkley Lake, Kentucky and Tennessee

Canton KY 42212

Landholding Agency: COE

Property Number: 31199010032

Status: Excess

Directions: Trigg Co. adjoining the city of Canton, KY. on the waters of Hopson Creek.

Comments: 8.24 acres; steep and wooded.

Tract 4502

Barkley Lake, Kentucky and Tennessee

Canton KY 42212

Landholding Agency: COE

Property Number: 31199010033

Status: Excess

Directions: 3½ miles in a southerly direction from Canton, KY.

Comments: 4.26 acres; steep and wooded.

Tract 4611

Barkley Lake, Kentucky and Tennessee

Canton KY 42212

Landholding Agency: COE

Property Number: 31199010034

Status: Excess

Directions: 5 miles south of Canton, KY.

Comments: 10.51 acres; steep and wooded; no utilities.

Tract 4619

Barkley Lake, Kentucky and Tennessee

Canton KY 42212

Landholding Agency: COE

Property Number: 31199010035

Status: Excess

Directions: 4½ miles south from Canton, KY.

Comments: 2.02 acres; steep and wooded; no utilities.

Tract 4817

Barkley Lake, Kentucky and Tennessee

Canton KY 42212

Landholding Agency: COE

Property Number: 31199010036

Status: Excess

Directions: 6½ miles south of Canton, KY.

Comments: 1.75 acres; wooded.

Tract 1217

Barkley Lake, Kentucky and Tennessee

Eddyville KY 42030

Landholding Agency: COE

Property Number: 31199010042

Status: Excess

Directions: On the north side of the Illinois Central Railroad.

Comments: 5.80 acres; steep and wooded.

Tract 1906

Barkley Lake, Kentucky and Tennessee

Eddyville KY 42030

Landholding Agency: COE

Property Number: 31199010044

Status: Excess

Directions: Approximately 4 miles east of Eddyville, KY.

Comments: 25.86 acres; rolling steep and partially wooded; no utilities.

Tract 1907

Barkley Lake, Kentucky and Tennessee

Eddyville KY 42038

Landholding Agency: COE

Property Number: 31199010045

Status: Excess

Directions: On the waters of Pilfen Creek, 4 miles east of Eddyville, KY

Comments: 8.71 acres; rolling steep and wooded; no utilities.

Tract 2001 #1

Barkley Lake, Kentucky and Tennessee

Eddyville KY 42030

Landholding Agency: COE

Property Number: 31199010046

Status: Excess

Directions: Approximately 4½ miles east of Eddyville, KY.

Comments: 47.42 acres; steep and wooded; no utilities.

Tract 2001 #2

Barkley Lake, Kentucky and Tennessee

Eddyville KY 42030

Landholding Agency: COE

Property Number: 31199010047

Status: Excess

Directions: Approximately 4½ miles east of Eddyville, KY.

Comments: 8.64 acres; steep and wooded; no utilities.

Tract 2005

Barkley Lake, Kentucky and Tennessee

Eddyville KY 42030

Landholding Agency: COE

Property Number: 31199010048

Status: Excess

Directions:Approximately 5½ miles east of Eddyville, KY.

Comments: 4.62 acres; steep and wooded; no utilities.

Tract 2307

Barkley Lake, Kentucky and Tennessee

Eddyville KY 42030

Landholding Agency: COE

Property Number: 31199010049

Status: Excess

Directions: Approximately 7½ miles southeasterly of Eddyville, KY.

Comments: 11.43 acres; steep; rolling and wooded; no utilities.

Tract 2403

Barkley Lake, Kentucky and Tennessee

Eddyville KY 42030

Landholding Agency: COE

Property Number: 31199010050

Status: Excess

Directions: 7 miles southeasterly of Eddyville, KY.

Comments: 1.56 acres; steep and wooded; no utilities.

Tract 2504

Barkley Lake, Kentucky and Tennessee

Eddyville KY 42030

Landholding Agency: COE

Property Number: 31199010051

Status: Excess

Directions: 9 miles southeasterly of Eddyville, KY.

Comments: 24.46 acres; steep and wooded; no utilities.

Tract 214

Barkley Lake, Kentucky and Tennessee

Grand Rivers KY 42045

Landholding Agency: COE

Property Number: 31199010052

Status: Excess

Directions: South of the Illinois Central Railroad, 1 mile east of the Cumberland River.

Comments: 5.5 acres; wooded; no utilities.

Tract 215

Barkley Lake, Kentucky and Tennessee

Grand Rivers KY 42045

Landholding Agency: COE

Property Number: 31199010053

Status: Excess

Directions: 5 miles southwest of Kuttawa

Comments: 1.40 acres; wooded; no utilities.

Tract 241

Barkley Lake, Kentucky and Tennessee

Grand Rivers KY 42045

Landholding Agency: COE

Property Number: 31199010054

Status: Excess

Directions: Old Henson Ferry Road, 6 miles west of Kuttawa, KY.

Comments: 1.26 acres; steep and wooded; no utilities.

Tracts 306, 311, 315 and 325

Barkley Lake, Kentucky and Tennessee

Grand Rivers KY 42045

Landholding Agency: COE

Property Number: 31199010055

Status: Excess

Directions: 2.5 miles southwest of Kuttawa, KY on the waters of Cypress Creek.

Comments: 38.77 acres; steep and wooded; no utilities.

Tracts 2305, 2306, and 2400-1

Barkley Lake, Kentucky and Tennessee

Eddyville KY 42030

Landholding Agency: COE

Property Number: 31199010056

Status: Excess

Directions: 6½ miles southeasterly of Eddyville, KY.

Comments: 97.66 acres; steep rolling and wooded; no utilities.

Tracts 5203 and 5204

Barkley Lake, Kentucky and Tennessee

Linton KY 42212

Landholding Agency: COE

Property Number: 31199010058

Status: Excess

Directions: Village of Linton, KY state highway 1254.

Comments: 0.93 acres; rolling, partially wooded; no utilities.

Tract 5240

Barkley Lake, Kentucky and Tennessee

Linton KY 42212

Landholding Agency: COE

Property Number: 31199010059

Status: Excess

Directions: 1 mile northwest of Linton, KY.

Comments: 2.26 acres; steep and wooded; no utilities.

Tract 4628

Barkley Lake, Kentucky and Tennessee

Canton KY 42212

Landholding Agency: COE

Property Number: 31199011621

Status: Excess

Directions: 4½ miles south from Canton, KY.

Comments: 3.71 acres; steep and wooded; subject to utility easements.

Tract 4619-B

Barkley Lake, Kentucky and Tennessee

Canton KY 42212

Landholding Agency: COE

Property Number: 31199011622

Status: Excess

Directions: 4½ miles south from Canton, KY.

Comments: 1.73 acres; steep and wooded; subject to utility easements.

Tract 2403-B

Barkley Lake, Kentucky and Tennessee

Eddyville KY 42038

Landholding Agency: COE

Property Number: 31199011623

Status: Unutilized

Directions: 7 miles southeasterly from Eddyville, KY.

Comments: 0.70 acres, wooded; subject to utility easements.

Tract 241-B

Barkley Lake, Kentucky and Tennessee

Grand Rivers KY 42045

Landholding Agency: COE

Property Number: 31199011624

Status: Excess

Directions: South of Old Henson Ferry Road, 6 miles west of Kuttawa, KY.

Comments: 11.16 acres; steep and wooded; subject to utility easements.

Tract 215-B

Barkley Lake, Kentucky and Tennessee

Grand Rivers KY 42045

Landholding Agency: COE

Property Number: 31199011626

Status: Excess

Directions: 5 miles southwest of Kuttawa

Comments: 1.00 acres; wooded; subject to utility easements.

Tract N-819

Dale Hollow Lake Project

Illwill Creek, Hwy 90

Hobart KY 42601

Landholding Agency: COE

Property Number: 31199140009

Status: Underutilized

Directions:

Comments: 91 acres, most recent use—hunting, subject to existing easements

Tracts 212 and 237

Barkley Lake, Kentucky and Tennessee

Grand Rivers KY 42045

Landholding Agency: COE

Property Number: 31199011625

Status: Excess

Directions: Old Henson Ferry Road, 6 miles west of Kuttawa, KY.

Comments: 2.44 acres; steep and wooded; subject to utility easements.

Tract 233

Barkley Lake, Kentucky and Tennessee

Grand Rivers KY 42045

Landholding Agency: COE

Property Number: 31199011627

Status: Excess

Directions: 5 miles southwest of Kuttawa

Comments: 1.00 acres; wooded; subject to utility easements.

Tennessee

Tract 6827

Barkley Lake

Dover TN 37058

Landholding Agency: COE

Property Number: 31199010927

Status: Excess

Directions: 2½ miles west of Dover, TN.

Comments: .57 acres; subject to existing easements.

Tracts 6002-2 and 6010

Barkley Lake

Dover TN 37058

Landholding Agency: COE

Property Number: 31199010928

Status: Excess

Directions: 3½ miles south of village of Tabaccoport.

Comments: 100.86 acres; subject to existing easements.

Tract 11516

Barkley Lake

Ashland City TN 37015

Landholding Agency: COE

Property Number: 31199010929

Status: Excess

Directions: 1/2 mile downstream from Cheatham Dam

Comments: 26.25 acres; subject to existing easements.

Tract 2319

J. Percy Priest Dam and Reservoir

Murfreesboro TN 37130

Landholding Agency: COE

Property Number: 31199010930

Status: Excess

Directions: West of Buckeye Bottom Road

Comments: 14.48 acres; subject to existing easements.

Tract 2227

J. Percy Priest Dam and Reservoir

Murfreesboro TN 37130

Landholding Agency: COE

Property Number: 31199010931

Status: Excess

Directions: Old Jefferson Pike

Comments: 2.27 acres; subject to existing easements.

Tract 2107

J. Percy Priest Dam and Reservoir

Murfreesboro TN 37130

Landholding Agency: COE

Property Number: 31199010932

Status: Excess

Directions: Across Fall Creek near Fall Creek camping area.

Comments: 14.85 acres; subject to existing easements.

Tracts 2601,2602,2603,2604

Cordell Hull Lake and Dam Project

Doe Row Creek

Gainesboro TN 38562

Landholding Agency: COE

Property Number: 31199010933

Status: Unutilized

Directions: TN Highway 56

Comments: 11 acres; subject to existing easements.

Tract 1911

J. Percy Priest Dam and Reservoir

Murfreesboro TN 37130

Landholding Agency: COE

Property Number: 31199010934

Status: Excess

Directions: East of Lamar Road

Comments: 6.92 acres; subject to existing easements.

Tract 7206

Barkley Lake

Dover TN 37058

Landholding Agency: COE

Property Number: 31199010936

Status: Excess

Directions: 2½ miles SE of Dover, TN.

Comments: 10.15 acres; subject to existing easements.

Tracts 8813, 8814

Barkley Lake

Cumberland TN 37050

Landholding Agency: COE

Property Number: 31199010937

Status: Excess

Directions: 1½ miles East of Cumberland City.

Comments: 96 acres; subject to existing easements.

Tract 8911

Barkley Lake

Cumberland City TN 37050

Landholding Agency: COE

Property Number: 31199010938

Status: Excess

Directions: 4 miles east of Cumberland City.

Comments: 7.7 acres; subject to existing easements.

Tract 11503

Barkley Lake

Ashland City TN 37015

Landholding Agency: COE

Property Number: 31199010939

Status: Excess

Directions: 2 miles downstream from Cheatham Dam.

Comments: 1.1 acres; subject to existing easements.

Tracts 11523, 11524

Barkley Lake

Ashland City TN 37015

Landholding Agency: COE

Property Number: 31199010940

Status: Excess

Directions: 2½ miles downstream from Cheatham Dam.

Comments: 19.5 acres; subject to existing easements.

Tract 6410

Barkley Lake

Bumpus Mills TN 37028

Landholding Agency: COE

Property Number: 31199010941

Status: Excess

Directions: 4½ miles SW. of Bumpus Mills.

Comments: 17 acres; subject to existing easements.

Tract 9707

Barkley Lake

Palmyer TN 37142

Landholding Agency: COE

Property Number: 31199010943

Status: Excess

Directions: 3 miles NE of Palmyer, TN. Highway 149

Comments: 6.6 acres; subject to existing easements.

Tract 6949

Barkley Lake

Dover TN 37058

Landholding Agency: COE

Property Number: 31199010944

Status: Excess

Directions: 1½ miles SE of Dover, TN.

Comments: 29.67 acres; subject to existing easements.

Tracts K-1191, K-1135

Old Hickory Lock and Dam

Hartsville TN 37074

Landholding Agency: COE

Property Number: 31199130007

Status: Underutilized

Directions:

Comments: 54 acres, (portion in floodway), most recent use—recreation.

Tracts 6005 and 6017

Barkley Lake

Dover TN 37058

Landholding Agency: COE

Property Number: 31199011173

Status: Excess

Directions: 3 miles south of Village of Tobaccoport.

Comments: 5 acres; subject to existing easements.

Tract A-102

Dale Hollow Lake Project

Canoe Ridge, State Hwy 52

Celina TN 38551

Landholding Agency: COE

Property Number: 31199140006

Status: Underutilized

Directions:

Comments: 351 acres, most recent use—hunting, subject to existing easements.

Tract A-120

Dale Hollow Lake Project

Swann Ridge, State Hwy No. 53

Celina TN 38551

Landholding Agency: COE

Property Number: 31199140007

Status: Underutilized

Directions:

Comments: 883 acres, most recent use—hunting, subject to existing easements.

Tract D-185

Dale Hollow Lake Project

Ashburn Creek, Hwy No. 53

Livingston TN 38570

Landholding Agency: COE

Property Number: 31199140010

Status: Underutilized

Directions:

Comments: 97 acres, most recent use—hunting, subject to existing easements.

Texas

FAA Outermarker—Houston

Spring TX 77373

Landholding Agency: GSA

Property Number: 54201040001

Status: Surplus

GSA Number: 7-U-TX-1110

Comments: 0.2459 acres, subject to restrictions/regulations regarding the Houston Intercontinental Airport, may not have access to a dedicated roadway.

Utah

Processing and Disposal Site

Monticello UT 84535

Landholding Agency: GSA

Property Number: 54201030008

Status: Surplus

GSA Number: 7-B-UT-431-AO

Comments: 175.41 acres, permanent utility easement, small portion may have contaminated groundwater, most recent use—grazing/farming.

Unsuitable Properties

Building

Arizona

Storage Bldg.

Bureau of Reclamation

Peoria AZ 85383

Landholding Agency: Interior

Property Number: 61201120001

Status: Unutilized

Reasons: Secured Area, Extensive deterioration.

California

Bldg. 1055

7910 Arnold Ave.

Beale CA 95903

Landholding Agency: Air Force

Property Number: 18201120001

Status: Unutilized

Reasons: Within 2000 ft. of flammable or explosive material, Extensive deterioration, Secured Area.

Bldg. 3304

4850 Camp Beale Hwy

Beale CA 95903

Landholding Agency: Air Force

Property Number: 18201120002

Status: Unutilized

Reasons: Extensive deterioration.

Bldg. 1056

7944 Arnold Ave.

Beale CA 95903

Landholding Agency: Air Force

Property Number: 18201120004

Status: Unutilized

Reasons: Extensive deterioration, Secured Area Floodway, Within 2000 ft. of flammable or explosive material.

Bldg. 2457

17700 25th St.

Beale CA 95903

Landholding Agency: Air Force

Property Number: 18201120008

Status: Unutilized

Reasons: Extensive deterioration.

Nebraska

Bldg. 481

AFB

Offutt NE 68113

Landholding Agency: Air Force

Property Number: 18201120010

Status: Excess

Reasons: Within airport runway clear zone, Secured Area.

New Mexico

Bldg. 867

1293 Bong St.

Holloman NM 88330

Landholding Agency: Air Force

Property Number: 18201120017

Status: Unutilized

Reasons: Within airport runway clear zone, Extensive deterioration, Secured Area.

New York

Bldg. 0368

Brookhaven Nat'l Lab

Upton NY 11973

Landholding Agency: Energy

Property Number: 41201110006

Status: Excess

Reasons: Extensive deterioration.

Floyd Wknd Training Site

Koenig Rd.

Floyd NY

Landholding Agency: GSA

Property Number: 54201120001

Status: Excess

GSA Number: 1-D-NY-0958

Directions: 1300, 1302, 1303, 1304, 1305, 1306 w/shed, 1307 w/shed

Comments: The land was deemed “suitable” (property #54201120002); however, the bldgs. are deteriorated beyond repair

Reasons: Extensive deterioration.

Oregon

Residence No. 0112001200B

Bureau of Reclamation

Madras OR 97741

Landholding Agency: Interior

Property Number: 61201120002

Status: Underutilized

Reasons: Extensive deterioration.

South Carolina

Shaw AFB

Sumter SC 29152

Landholding Agency: Air Force

Property Number: 18201120006

Status: Excess

Reasons: Secured Area.

B823

518 Polifka St.

Sumter SC 29152

Landholding Agency: Air Force

Property Number: 18201120007

Status: Excess

Reasons: Secured Area.

Bldg. 408

Shaw AFB

Sumter SC 29152

Landholding Agency: Air Force

Property Number: 18201120011

Status: Excess

Reasons: Secured Area.

Bldg. 1422

515 Exchange St.

Sumter SC 29152

Landholding Agency: Air Force

Property Number: 18201120012

Status: Excess

Reasons: Secured Area.

B1425

516 Exchange St.

Sumter SC 29152

Landholding Agency: Air Force

Property Number: 18201120015

Status: Excess

Reasons: Extensive deterioration.

B409

421 Johnson St.

Sumter SC 29152

Landholding Agency: Air Force

Property Number: 18201120018

Status: Excess

Reasons: Secured Area.

Virginia

Bldg. 405

Kerr Rd.

Ft. Eustis VA 23604

Landholding Agency: Air Force

Property Number: 18201120003

Status: Underutilized

Reasons: Extensive deterioration.

Ft. Eustis

801 Lee Blvd.

Eustis VA 23604

Landholding Agency: Air Force

Property Number: 18201120005

Status: Underutilized

Reasons: Extensive deterioration.

Bldg. 2738

Harrison Loop

Ft. Eustis VA 23604

Landholding Agency: Air Force

Property Number: 18201120009

Status: Underutilized

Reasons: Extensive deterioration.

Bldg. 435

Joint Base Langley Eustis

Eustis VA

Landholding Agency: Air Force

Property Number: 18201120013

Status: Unutilized

Reasons: Extensive deterioration.

Facility 999

400 Clarke Ave.

Langley VA 23665

Landholding Agency: Air Force

Property Number: 18201120016

Status: Underutilized

Reasons: Secured Area, Extensive deterioration.

[FR Doc. 2011-8777 Filed 4-14-11; 8:45 am]

BILLING CODE 4210-67-P